DEPARTMENT OF HEALTH AND HUMAN SERVICES

Centers for Disease Control and Prevention

[60-Day-12-0806]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 639-7570 and send comments to Kimberly Lane, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

All Age Influenza Hospitalization Surveillance (Flu Hosp)—OMB 0920-0806, revision Expiration March 31, 2012—National Center for Immunization and Respiratory Diseases (NCIRD), Centers for Disease Control and Prevention (CDC).

Background and Brief Description

CDC is requesting extension of an OMB-approved data collection instrument for monitoring laboratory-confirmed influenza hospitalizations (OMB 0920-0806, Exp March 31, 2012). Previously, two separate OMB-approved tools were used for this project: one for pediatric influenza hospitalizations (persons <18 years of age) and one for adult cases. As many of the same questions were asked separately in both the pediatric and adult forms, the rationale for consolidating these forms into one instrument is to minimize paperwork at the state/site level. Using one collection tool should also decrease the likelihood of errors in information collection and entry, improve the timeliness of data transmission to CDC, and minimize the overall burden on respondents of information collection.

The All Age Influenza Hospitalization Surveillance (Flu Hosp) project is part of the Emerging Infections Program (EIP). EIP is a CDC-state-academic institution collaborative network including California, Colorado, Connecticut, Georgia, Maryland, Minnesota, New Mexico, New York, Oregon and Tennessee. The consolidated Flu Hosp information collection instrument will be used to more efficiently collect demographic and clinical information about laboratory-confirmed influenza hospitalizations among adults and children in a geographic- and population-defined area of the United States. EIP sites will continue collecting patient information during the influenza season (October 1 of the current year to April 30 of the following year) and transmit it to CDC on a weekly basis. Case reports are submitted as soon as possible after case identification and investigation. Timely reports to CDC allow for rapid identification of epidemics, outbreaks and affected groups so that preventive measures can be quickly taken, and pertinent recommendations and policies can be made. The Flu Hosp data are also used for making influenza vaccination recommendations and modeling the burden of influenza morbidity and mortality.

The entire data collection instrument can be completed from review of the hospital medical records. The only exception is in regard to the influenza vaccination status which, if not available in the medical record, may involve an interview of the patient or patient proxy. Influenza vaccination status information is crucial for allowing CDC to assess the influenza vaccination program performance.

The respondents for the data collection instrument are the Flu Hosp participating sites. There are no costs to respondents other than their time for participating.

Estimated Annualized Burden Hours
Type of respondents | Form name | Number of respondents | Number of responses per respondent | Average burden per response (in hours) | Total burden (in hours)
Health Department | All Age Influenza Hospitalization Surveillance Project Case Report Form | 10 | 400 | 15/60 | 1000
Total |  |  |  |  | 1000

Dated: January 6, 2012.
Kimberly Lane,
Reports Clearance Officer, Centers for Disease Control and Prevention.

[FR Doc. 2012-472 Filed 1-11-12; 8:45 am]

BILLING CODE 4163-18-P